NATIONAL AERONAUTICS AND SPACE ADMINISTRATION

[Notice: (22-052)]

NASA Advisory Council; STEM Engagement Committee; Meeting

AGENCY: National Aeronautics and Space Administration.

ACTION: Notice of meeting.

SUMMARY: In accordance with the Federal Advisory Committee Act, the National Aeronautics and Space Administration announces a meeting of the Science, Technology, Engineering and Mathematics (STEM) Engagement Committee of the NASA Advisory Council (NAC). This Committee reports to the NAC.

DATES: Monday, August 1 2022, 2:00 p.m.-6:00 p.m., Eastern Time.

ADDRESSES: Virtual meeting by dial-in teleconference and WebEx only.

FOR FURTHER INFORMATION CONTACT: Dr. Tara Strang, NAC STEM Engagement Committee, NASA Headquarters, Washington, DC 20546, (216) 410-4335, or tara.m.strang@nasa.gov.

SUPPLEMENTARY INFORMATION: This meeting will be held virtually and will be available telephonically and by WebEx only. You must use a touch tone phone to participate in this meeting. Any interested person may dial the toll free access number 415-527-5035, and then the access code: 2761 487 1481 followed by the # sign. To join via WebEx, use link: https://nasaenterprise.webex.com/nasaenterprise/j.php?MTID=m5eecf7216da57c61988d745c5b5ce1c1 and the meeting number and access code is 2761 487 1481 and the password is 3R9Mrnfnh@2 (case sensitive).

Note: If dialing in, please “mute” your telephone. The agenda for the meeting will include the following:

—Opening Remarks by Chair

—STEM Engagement Updates on Topics of Interest

—STEM Engagement Partnerships

—Formulation of New Findings and Recommendations

—Other Related Topics

It is imperative that the meeting be held on this date to accommodate the scheduling priorities of the key participants.

Carol J. Hamilton,
Acting Advisory Committee Management Officer, National Aeronautics and Space Administration.

[FR Doc. 2022-14773 Filed 7-11-22; 8:45 am]

BILLING CODE 7510-13-P